DEPARTMENT OF THE INTERIOR

Fish and Wildlife Service

[FWS-R2-ES-2016-N111; FXES11130200000-167-FF02ENEH00]

Draft Safe Harbor Agreement Amendment and Application for an Enhancement of Survival Permit for the Phoenix Reach of the Rio Salado Environmental Restoration Project

AGENCY: U.S. Fish and Wildlife Service, Interior.

ACTION: Notice of availability; receipt of application.

SUMMARY: The City of Phoenix (applicant) has applied to the U.S. Fish and Wildlife Service (Service) for an amendment to their enhancement of survival permit pursuant to the Endangered Species Act (Act), as amended. The requested amendment would authorize incidental take of the yellow-billed cuckoo as a result of operation and maintenance activities associated with the Rio Salado Project. We invite the public to review and comment on the permit application and the associated draft safe harbor agreement amendment (amendment).

DATES: To ensure consideration, written comments must be received on or before September 28, 2016.

ADDRESSES: Obtaining Documents

• Internet: You may obtain copies of the documents on the Service's Web site at http://www.fws.gov/arizonaes/.

• U.S. Mail: Field Supervisor, U.S. Fish and Wildlife Service, Arizona Ecological Services Office, 9828 North 31st Avenue, #C3, Phoenix, Arizona 85051-2517 (602-242-0210). You may also obtain a copy by telephone request to the Field Supervisor.

• In-Person: Copies of the application, draft amendment, or other related documents are also available for public inspection and review at the following locations, by appointment and written request only, 8 a.m. to 4:30 p.m.:

○ U.S. Fish and Wildlife Service, 500 Gold Avenue SW., Room 6034, Albuquerque, NM 87201.

○ Arizona Ecological Services Office, 9828 North 31st Avenue, #C3, Phoenix, Arizona 85051-2517 (602-242-0210).

Persons wishing to review the application may obtain a copy by writing to the Regional Director, U.S. Fish and Wildlife Service, P.O. Box 1306, Room 4102, Albuquerque, NM 87103, Attention: Branch Chief, Environmental Review.

Comment submission: You may submit written comments by one of the following methods:

• Electronically: fw2_hcp_permits@fws.gov.

• By hard copy: U.S. Fish and Wildlife Service, Arizona Ecological Services Office, 2321 West Royal Palm Road, Suite 103, North 31st Avenue, #C3, Phoenix, AZ 85021-4951; or by fax to 602-242-2513.

Please refer to permit number TE205294-1 when submitting comments.

FOR FURTHER INFORMATION CONTACT: Nichole Engelmann, U.S. Fish and Wildlife Service, 2321 West Royal Palm Road, Suite 103, Phoenix, AZ 85021-4951, 602/242-0210 x237, or by email at Nichole_Engelmann@fws.gov.

SUPPLEMENTARY INFORMATION: The City of Phoenix (applicant) has applied to the U.S. Fish and Wildlife Service (Service) for an amendment to their enhancement of survival permit pursuant to section 10(a)(1)(A) of the Endangered Species Act (Act; 16 U.S.C. 1531 et seq.), as amended. The requested amendment, which will expire on June 8, 2061, to coincide with the expiration date of the original permit (50 years from the issuance date of June 8, 2011), would authorize incidental take of the yellow-billed cuckoo (Coccyzus americanus) as a result of operation and maintenance activities associated with the Rio Salado Project. We invite the public to review and comment on the permit application and the associated draft safe harbor agreement amendment (amendment).

The applicant plans to continue to conduct operation and maintenance activities associated with the Rio Salado Project, including maintenance of vegetation, roads, trails, water delivery system, flood control capacity, and storm water facilities. The Rio Salado Project, Phoenix Reach, is a cooperative project between the applicant and the U.S. Army Corps of Engineers to restore, enhance, and maintain 595 acres of native riparian and wetland vegetation along the Salt River from 24th Street to 19th Avenue.

Section 9 of the Act prohibits the “taking” of threatened or endangered species. However, the Service, under limited circumstances, may issue permits to take threatened and endangered wildlife species when such taking is incidental to, and not the purpose of, otherwise lawful activities.

The Service has made a preliminary determination that the approval of the draft amendment and permit amendment application qualify for categorical exclusion under the National Environmental Policy Act (NEPA; 42 U.S.C. 4321 et seq.), as provided by the Department of the Interior implementing regulations at 43 CFR 46.205, 46.210, and 46.215.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority

We provide this notice under section 10(c) of the Act and its implementing regulations (50 CFR 17.22), and the National Environmental Policy Act (42 U.S.C. 4371 et seq.) and its implementing regulations (40 CFR 1506.6).

Joy E. Nicholopoulos,
Acting Regional Director, Southwest Region, Albuquerque, New Mexico.

[FR Doc. 2016-20671 Filed 8-26-16; 8:45 am]

BILLING CODE 4333-15-P